AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator of USAID has determined that renewal of the Advisory Committee on Voluntary Foreign Aid for a two-year period beginning January 15, 2011 is necessary and in the public interest.

FOR FURTHER INFORMATION CONTACT: Deborah Lewis, 202-712-0936.

Dated: December 13, 2010.
Benjamin Hubbard,
Executive Director, Advisory Committee on Voluntary Foreign Aid (ACVFA), U.S. Agency for International Development.

[FR Doc. 2010-32419 Filed 12-23-10; 8:45 am]

BILLING CODE P